SECURITIES AND EXCHANGE COMMISSION

[File No. 500-1]

In the Matter of: Green Machine Development Corp.; Order of Suspension of Trading

December 14, 2007.

It appears to the Securities and Exchange Commission that the market for the securities of Green Machine Development Corp. (“Green Machine,” trading symbol GMVP), may be reacting to manipulative forces or deceptive practices and that there is insufficient current public information about the issuer upon which an informed investment decision may be made, particularly concerning (1) the identity of and prior securities fraud judgments against persons who appear to be involved in the offer and sale of Green Machine shares; (2) the financial performance and business prospects of Green Machine; and (3) offerings to foreign investors and any restrictions on the resale of shares.

The Commission is of the opinion that the public interest and the protection of investors require a suspension of trading in the securities of the above-listed company.

Therefore, it is ordered, pursuant to section 12(k) of the Securities Exchange Act of 1934, that trading in the above-listed company is suspended for the period of 9:30 a.m. EST, December 14, 2007 through 11:59 p.m. EST, on December 28, 2007.

By the Commission.
J. Lynn Taylor,
Assistant Secretary.

[FR Doc. 07-6096 Filed 12-14-07; 12:26 pm]

BILLING CODE 8011-01-P